DEPARTMENT OF DEFENSE

Office of the Secretary

Defense Health Board (DHB) Meeting

AGENCY: Department of Defense.

ACTION: Notice of partially-closed meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the following meeting is announced:

Name of Committee: Defense Health Board (DHB).

Dates: May 3, 2007.

Times: 9 a.m.-10 a.m. (Closed Session). 10 a.m.-12 p.m. (Open Session). 2 p.m.-4 p.m. (Open Session).

Place of Meeting: National Transportation Safety Board Conference Center, 429 L'Enfant Plaza, Washington, DC 20594.

Purpose of the Meeting: The purpose of the meeting is to address and deliberate pending and new Board issues and provide briefings for Board members on topics related to ongoing Board business.

Agenda: The Defense Health Board will receive a classified briefing on biowarfare threats during a closed session from 9 to 10 a.m. During the open session that follows the Board will receive updates on the Military Vaccine Program and from the DoD Vaccine Healthcare Centers. The Board will discuss the Department's efforts to prepare for a potential influenza pandemic and will receive a status report on seasonal influenza surveillance. The Board will also deliberate the draft findings and recommendations of the Mental Health Task Force. Established by Congress and operating as a Defense Health Board subcommittee, the Mental Health Task Force is charged to assess and recommend method for improving, the efficacy of mental health services provided to members of the Armed Forces by the Department of Defense.

The Board will also conduct an administrative session on the afternoon of May 3, 2007, in the same location following the open session. The administrative session is closed to the public.

Pursuant to 5 U.S.C. 552b, as amended, and 41 CFR 102-3.155, in the interest of national security, the Department of Defense has determined that the session of the Defense Health Board meeting from 9 to 10 a.m. on May 3, 2007 will be closed to the public. The Under Secretary of Defense (Personnel and Readiness), in consultation with the Officer of the DoD General Counsel, has determined in writing that the public interest requires that the one-hour session on May 3, 2007 be closed to public because it concerns matters listed in section 552b(c)(1) of title 5, United States Code. Specifically the information presented meets criteria established by an executive order to be kept secret in the interest of national defense and foreign policy.

Pursuant to 5 U.S.C. 552b, as amended, and 41 CFR 102-3.140 through 102-3.165 and subject availability of space, the Defense Health Board meeting from 10 a.m. to 4 p.m. on May 3, 2007 is open to the public. Any member of the public wishing to provide input to the Defense Health Board should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals submitting a written statement may submit their statement to the Designated Federal Officer at the Address detained below at any point. However, if the written statement is not received at least 10 calendar days prior to the meeting, which is subject to this notice, then it may not be provided to or considered by the Defense Health Board until the next open meeting.

The Designated Federal Officer will review all timely submissions with the Defense Health Board Chairperson, and ensure they are provided to members of the Defense Health board before the meeting that is subject to this notice. After reviewing the written comments, the Chairperson and the Designated Federal Officer may choose to invite the submitter of the committee to orally present their issue during an open portion of this meeting or at a future meeting.

The Designated Federal Officer, in consultation with the Defense Health Board Chairperson, may, if desired, allot a specific amount of time for members of the public to present their issues for review and discussion by the Defense Health Board.

FOR FURTHER INFORMATION CONTACT: Colonel Roger L. Gibson, Executive Secretary, Defense Health Board, Five Skyline Place, 5111 Leesburg Pike, Room 810, Falls Church, Virginia 22041-3206, (703) 681-3279, Ext 123, Fax: (703) 681-3321, (roger.gibson@ha.osd.mil). Additional information and meeting registration is available on line at the Defense Health Board Web site, http://www.ha.osd.mil/dhb. The public is encouraged to register for the meeting. Written statements may be mailed to the above address, e-mailed to dhb@ha.osd.mil or faxed to (703) 681-3321.

Dated: April 17, 2007
L. M. Bynum,
Alternate OSD Federal Register, Liaison Officer, Department of Defense.

[FR Doc. 07-2024 Filed 4-19-07; 11:22 am]

BILLING CODE 5001-06-M